DEPARTMENT OF ENERGY

Federal Energy Regulatory Commission

[Project No. 14518-001]

New England Hydropower Company, LLC; Notice of Surrender of Preliminary Permit

Take notice that New England Hydropower Company, LLC, permittee for the proposed Lensdale Pond Dam Hydroelectric Project, has requested that its preliminary permit be terminated. The permit was issued on July 25, 2013, and would have expired on June 30, 2016.¹ The project would have been located on the Quinebaug River in the town of Southbridge, Worcester County, Massachusetts.

¹ 144 FERC ¶ 62,066 (2013).

The preliminary permit for Project No. 14518 will remain in effect until the close of business, December 18, 2015. But, if the Commission is closed on this day, then the permit remains in effect until the close of business on the next day in which the Commission is open.² New applications for this site may not be submitted until after the permit surrender is effective.

² 18 CFR 385.2007(a)(2) (2015).

Dated: November 18, 2015.
Nathaniel J. Davis, Sr.,
Deputy Secretary.

[FR Doc. 2015-30394 Filed 11-30-15; 8:45 am]

BILLING CODE 6717-01-P